DEPARTMENT OF COMMERCE

National Oceanic and Atmospheric Administration

RIN 0648-XF144

North Pacific Fishery Management Council; Public Meeting

AGENCY: National Marine Fisheries Service (NMFS), National Oceanic and Atmospheric Administration (NOAA), Commerce.

ACTION: Notice of public meeting.

SUMMARY: The North Pacific Fishery Management Council (Council) and its advisory committees will meet in Seattle, WA.

DATES: The meetings will be held January 30, 2017 through February 7, 2017. See SUPPLEMENTARY INFORMATION for specific dates and times.

ADDRESSES: The meeting will be held at the Renaissance Hotel, 515 Madison St., Seattle, WA 98104.

Council address: North Pacific Fishery Management Council, 605 W. 4th Ave., Suite 306, Anchorage, AK 99501-2252; telephone: (907) 271-2809.

FOR FURTHER INFORMATION CONTACT: David Witherell, Council staff; telephone: (907) 271-2809.

SUPPLEMENTARY INFORMATION: The Council will begin its plenary session at 8 a.m. in the South Room on Wednesday, February 1, continuing through Tuesday, February 7, 2017. The Scientific and Statistical Committee (SSC) will begin at 8 a.m. in the East Room on Monday, January 30, and continue through Wednesday, February 1, 2017. The Council's Advisory Panel (AP) will begin at 8 a.m. in the North/West Room on Tuesday, January 31, and continue through Saturday, February 4, 2017. The IFQ Committee will meet on Monday, January 30, 2017 at 12 p.m. in the Marion Room. The Ecosystem Committee will meet on Tuesday, January 31, 2017, from 8 a.m. to 12 p.m. in the Marion Room.

Agenda

Monday, January 30, 2017 Through Tuesday, February 7, 2017

Council Plenary Session: The agenda for the Council's plenary session will include the following issues. The Council may take appropriate action on any of the issues identified.

(1) Executive Director's Report

(2) NMFS Management Report (Including Report on NS1 Guidelines, and Halibut decksorting EFP renewal)

(3) ADF&G Report

(4) NOAA Enforcement

(5) USCG Report

(6) USFWS Report

(7) Protected Species Report

(8) IPHC Report

(9) NAVY (GOA Training Report)

(10) CDQ Ownership Caps

(11) Mixing of Guided and Unguided Halibut

(12) Area 4 Halibut IFQ Leasing

(13) IFQ Committee Report on Potential New Actions

(14) BSAI Crab Specifications for Norton Sound Red King Crab

(15) BSAI YFS TLA Fishery Limited Entry

(16) AFA 10-Year Program Review

(17) Squid to Ecosystem Component Category

(18) GOA Gear Specific Skate MRAs

(19) Bristol Bay Red King Crab PSC

(20) Stock Assessment Prioritization

(21) Staff Tasking

The Advisory Panel will address most of the same agenda issues as the Council except B reports.

The SSC agenda will include the following issues:

(1) BSAI YFS TLA Fishery Limited Entry

(2) BSAI Crab Specifications for Norton Sound Red King Crab

(3) Squid to Ecosystem Component Category

(4) Stock Assessment Prioritization

(5) National Standard 1 Guidelines

(6) Economic SAFE Report

(7) Ensemble Modeling Workshop

In addition to providing ongoing scientific advice for fishery management decisions, the SSC functions as the Councils primary peer review panel for scientific information as described by the Magnuson-Stevens Act section 302(g)(1)(e), and the National Standard 2 guidelines (78 FR 43066). The peer review process is also deemed to satisfy the requirements of the Information Quality Act, including the OMB Peer Review Bulletin guidelines.

The Agenda is subject to change, and the latest version will be posted at http://www.npfmc.org/.

Special Accommodations

These meetings are physically accessible to people with disabilities. Requests for sign language interpretation or other auxiliary aids should be directed to Shannon Gleason at (907) 271-2809 at least 7 working days prior to the meeting date.

Dated: January 6, 2017.
Tracey L. Thompson,
Acting Deputy Director, Office of Sustainable Fisheries, National Marine Fisheries Service.

[FR Doc. 2017-00420 Filed 1-10-17; 8:45 am]

BILLING CODE 3510-22-P